DEPARTMENT OF THE INTERIOR

Fish and Wildlife Service

Restoration of the Diamond Lake Recreational Fishery

AGENCY: Fish and Wildlife Service, Interior.

ACTION: Notice.

SUMMARY: The Fish and Wildlife Service announces that we are cancelling a Notice of Intent to gather information necessary to prepare an Environmental Impact Statement (EIS) for the proposed Oregon State project “Restoration of the Diamond Lake Recreational Fishery.”

FOR FURTHER INFORMATION CONTACT: Jerry Novotny, Office of Migratory Birds and State Programs, U.S. Fish and Wildlife Service, 911 NE. 11th Avenue, Portland, Oregon 97232-4181. Telephone: 503-231-6128.

SUPPLEMENTARY INFORMATION: Pursuant to the National Environmental Policy, the U.S. Fish and Wildlife Service (Service) advises the public that we are cancelling a Notice of Intent Act to gather information necessary to prepare an Environmental Impact Statement (EIS) for the proposed State project “Restoration of the Diamond Lake Recreational Fishery” (Federal Register Vol. 64, No. 39, pages 10009-10011, March 1, 1999). This State project was to be funded through the Service's Federal Aid in Sport Fish Restoration Program. The State of Oregon, at the direction of their Fish and Wildlife Commission, has notified the Service that they are withdrawing their proposal and associated funding request to treat the lake with rotenone in an attempt to eradicate an overpopulation of tui chub. Water quality issues, concerns about downstream disturbances, and escalating costs of such a large project resulted in the State's change of plans. They now intend to selectively manage the lake for species native to the watershed to seek control of the tui chub population.

Dated: October 3, 2001.
Cynthia U. Barry,
Acting Regional Director.

[FR Doc. 01-25869 Filed 10-12-01; 8:45 am]

BILLING CODE 4310-55-P